FEDERAL COMMUNICATIONS COMMISSION

47 CFR Parts 32, 52, 61, 64, and 69

Communications Common Carriers, Reporting and Recordkeeping Requirements, Telephone, Telecommunications, Uniform System of Accounts

AGENCY: Federal Communications Commission.

ACTION: Final rule; announcement of effective date.

SUMMARY: This document announces the approval of the Office of Management and Budget (OMB) for information collection requirements in the sections outlined in the DATES section.

DATES: Effective October 4, 2011, the following regulations have been approved by OMB:

32.2000—64 FR 50007, September 15, 1999.

52.33—63 FR 35161, June 29, 1998.

52.33(a)(3)—67 FR 40620, June 13, 2002.

61.38(b)(4)—69 FR 25336, May 6, 2004.

61.41(c), (d) and (e)—69 FR 25336, May 6, 2004.

64.5001—71 FR 43673, August 2, 2006.

69.123—69 FR 25336, May 6, 2004.

FOR FURTHER INFORMATION CONTACT: Lynne Hewitt Engledow, Pricing Policy Division, Wireline Competition Bureau, at lynne.engledow@fcc.gov.

SUPPLEMENTARY INFORMATION: On June 23 2000, OMB approved the information collection requirements contained in § 32.2000 of title 47 of the United States Code as a revision to OMB Control Number 3060-0370.

On September 12, 2000, OMB approved the information collection requirements contained in § 52.33 of title 47 of the United States Code as a revision to OMB Control Number 3060-0370.

On October 22, 2002 OMB approved the information collection requirements contained in § 52.33(a)(3) of title 47 of the United States Code as a revision to OMB Control Number 3060-0742.

On May 25, 2005, OMB approved the information collection requirements contained in §§ 61.38(b)(4), 61.41(c), (d) and (e) and 69.123 of title 47 of the United States Code as a revision to OMB Control Number 3060-0298.

On February 5, 2007, OMB approved the information collection requirements contained in § 64.5001 of title 47 of the United States Code as a new collection, OMB Control Number 3060-1096. These information collection requirements required OMB approval to become effective. The Commission publishes this document as an announcement of those approvals. If you have any comments on the burden estimates listed below, or how the Commission can improve the collections and reduce any burdens caused thereby, please contact Thomas Butler, Federal Communications Commission, Room 5-C458, 445 12th Street, SW., Washington, DC 20554. Please include the OMB Control Numbers, 3060-0370, 3060-0742, 3060-0298, and 3060-1096 in your correspondence. The Commission will also accept your comments via the Internet if you send them to PRA@fcc.gov.

To request materials in accessible formats for people with disabilities (Braille, large print, electronic files, audio format), send an e-mail to fcc504@fcc.gov or call the Consumer & Governmental Affairs Bureau at (202) 418-0530 (voice, (202) 419-0432 (TTY).

Synopsis: As required by the Paperwork Reduction Act of 1995 (44 U.S.C. 3507), the FCC is notifying the public that it received OMB approval for the information collection requirements described above. The OMB Control Numbers are 3060-0370, 3060-0742, 3060-0298 and 3060-1096. The total annual reporting burden for respondents for these collections of information, including the time for gathering and maintaining the collection of information, has been most recently approved to be:

For 3060-0370: 859 responses, for a total of 859 hours, and no annual costs.

For 3060-0742: 10,001,890 responses, for a total of 672,516 hours and $13,423,321 in annual costs.

For 3060-0298: 1,160 responses, for a total annual burden of 58,000 hours, and $945,400 in annual costs.

For 3060-1096: 1,896 responses, for a total of 15,800 hours, and no annual costs.

An agency may not conduct or sponsor a collection of information unless it displays a current valid OMB Control Number. No person shall be subject to any penalty for failing to comply with a collection of information subject to the Paperwork Reduction Act, which does not display a current, valid OMB Control Number. The foregoing notice is required by the Paperwork Reduction Act of 1995, Public Law 104-13, October 1, 1995, and 44 U.S.C. 3507.

List of Subjects in 47 CFR Parts 32, 52, 61, 64, and 69

Communications common carriers, reporting and Recordkeeping requirements, Telephone, Telecommunications, Uniform system of accounts.

Federal Communications Commission.
Marlene H. Dortch,
Secretary.

[FR Doc. 2011-25586 Filed 10-3-11; 8:45 am]

BILLING CODE 6712-01-P